NATIONAL FOUNDATION OF THE ARTS AND THE HUMANITIES

Institute of Museum and Library Services

47th Meeting of the National Museum and Library Services Board; Correction

AGENCY: Institute of Museum and Library Services (IMLS), National Foundation of the Arts and the Humanities (NFAH).

ACTION: Notice; correction.

SUMMARY: IMLS published a document in the Federal Register of November 9, 2023, concerning notice of the 48th National Museum and Library Services Board meeting on December 13th, 2023. Since then, the agency has finalized the location of the meeting; it will be held at the Phoenix Art Museum.

FOR FURTHER INFORMATION CONTACT: Katherine Maas, Chief of Staff and Alternate Designated Federal Officer, (202) 653-4798; kmaas@imls.gov.

SUPPLEMENTARY INFORMATION:

Correction

In the Federal Register of November 9, 2023, in FR Doc. 2023-24775, on page 77369, in the middle of the middle column, please adjust the Addresses to read: The meeting will convene in a hybrid format. Virtual meeting and audio conference technology will be used to connect virtual attendees with in-person attendees. Instructions for joining will be sent to all registrants. In-person attendees will meet at the Phoenix Art Museum. If you wish to join the meeting virtually, please contact IMLS by December 11, 2023.

Dated: December 4, 2023.
Brianna Ingram,
Paralegal Specialist.

[FR Doc. 2023-26908 Filed 12-6-23; 8:45 am]

BILLING CODE 7036-01-P